COMMISSION ON CIVIL RIGHTS

Agenda and Notice of Public Meeting of the Vermont Advisory Committee

AGENCY: Commission on Civil Rights.

ACTION: Announcement of meeting.

SUMMARY: Notice is hereby given, pursuant to the provisions of the rules and regulations of the U.S. Commission on Civil Rights (Commission), and the Federal Advisory Committee Act (FACA) that an orientation and planning meeting of the Vermont Advisory Committee to the Commission will convene at 12:00 p.m. (EDT) on Friday, August 19, 2016, at Community College of Vermont, 660 Elm St., Montpelier, 05602. The purpose of the orientation meeting is to inform the newly appointed Committee members about the rules of operation of federal advisory committees and to select additional officers, as determined by the Committee. The purpose of the planning meeting is to discuss potential topics that the Committee may wish to study. The Committee will also review draft reports on Housing Discrimination and Racial Profiling and vote on submission of these reports to the Commission.

Persons who plan to attend the meeting and who require other accommodations, please contact Evelyn Bohor at ebohor@usccr.gov at the Rocky Mountain Regional Office at least ten (10) working days before the scheduled date of the meeting.

Members of the public are invited to submit written comments; the comments must be received in the regional office by Monday, September 19, 2016. Written comments may be mailed to the Eastern Regional Office, U.S. Commission on Civil Rights, 1331 Pennsylvania Avenue, Suite 1150, Washington, DC 20425, faxed to (202) 376-7548, or emailed to Evelyn Bohor at ero@usccr.gov. Persons who desire additional information may contact the Eastern Regional Office at (202) 376-7533.

The activities of this advisory committee, including records and documents discussed during the meeting, will be available for public viewing, as they become available at: https://database.faca.gov/committee/meetings.aspx?cid=239. Records generated from this meeting may also be inspected and reproduced at the Eastern Regional Office, as they become available, both before and after the meeting. Persons interested in the work of this advisory committee are advised to go to the Commission's Web site, www.usccr.gov, or to contact the Eastern Regional Office at the above phone number, email or street address.

Agenda

Orientation and Administrative Matters

Barbara de La Viez, Deputy Director, Eastern Regional Office and Designated Federal Official

Discussion of Potential Civil Rights topics

Diane Snelling, Chair

Discussion of Potential Topics of Study

VT State Advisory Committee

Review of Draft Reports

VT State Advisory Committee

DATES: Friday, August 19, 2016, at 1:30 p.m. (EDT).

ADDRESSES: Community College of Vermont, 660 Elm St., Montpelier, 05602

FOR FURTHER INFORMATION CONTACT: Ivy L. Davis at ero@usccr.gov, or 202-376-7533

Dated: August 1, 2016.
David Mussatt,
Chief, Regional Programs Unit.

[FR Doc. 2016-18538 Filed 8-4-16; 8:45 am]

BILLING CODE 6335-01-P